DEPARTMENT OF HOMELAND SECURITY

Office of the Secretary

Privacy Act of 1974; Retirement of System of Records

AGENCY: Privacy Office, DHS.

ACTION: Notice of the retirement of two Privacy Act system of records notices.

SUMMARY: In accordance with the Privacy Act of 1974, the Department of Homeland Security is giving notice that it proposes to retire the following Privacy Act system of records notice Treasury/CS.190 Personnel Case File (66 FR 52984 October 18, 2001) and partially retire sections of USSS.002 Chief Counsel Record System (66 FR 45362 August 28, 2001) relating to equal employment opportunities from its inventory of record systems and rely upon the Government-wide system of records notice issued by the Equal Employment Opportunity Commission, EEOC/GOVT-1 (67 FR 49338 July 30, 2002), which is written to cover all Federal equal employment opportunity programs.

DATES: These changes will take effect on October 30, 2008.

FOR FURTHER INFORMATION CONTACT: Hugo Teufel III, Chief Privacy Officer, Department of Homeland Security, Washington, DC 20528, by telephone (703) 235-0780 or facsimile (703) 235-0442.

SUPPLEMENTARY INFORMATION: Pursuant to the provisions of the Privacy Act of 1974, 5 U.S.C. 552a, and as part of its ongoing integration and management efforts, the Department of Homeland Security (DHS) is retiring the system of records notice, Treasury/CS.190 Personnel Case File (66 FR 52984 October 18, 2001), and partially retire USSS.002 Chief Counsel Record System (66 FR 45362 August 28, 2001), that were issued by the Department of Treasury prior to the creation of the Department of Homeland Security.

DHS will continue to collect and maintain records regarding employees who file a grievance or complaint and/or whom disciplinary action has been proposed or taken under the equal opportunity program and will rely upon the existing Federal Government-wide system of records titled EEOC/GOVT-1 Equal Employment Opportunity Commission (67 FR 49338 July 30, 2002), which is written to cover all Federal equal employment opportunity programs.

Eliminating this notice will have no adverse impacts on individuals, but will promote the overall streamlining and management of DHS Privacy Act record systems.

Dated: September 24, 2008.
Hugo Teufel III,
Chief Privacy Officer, Department of Homeland Security.

[FR Doc. E8-23001 Filed 9-29-08; 8:45 am]

BILLING CODE 4410-10-P